DEPARTMENT OF ENERGY

Federal Energy Regulatory Commission

[Docket No. IC21-20-000]

Commission Information Collection Activities (FERC-567, FERC-576); Consolidated Comment Request; Extension

AGENCY: Federal Energy Regulatory Commission, Department of Energy.

ACTION: Notice of information collections and request for comments.

SUMMARY: In compliance with the requirements of the Paperwork Reduction Act of 1995, the Federal Energy Regulatory Commission (Commission or FERC) is soliciting public comment on the currently approved information collections, FERC-567 (Gas Pipeline Certificates: Annual Reports of System Flow Diagrams) and FERC-576 (Report of Service Interruptions or Damage to Facilities) which will be submitted to the Office of Management and Budget (OMB) for a review of the information collection requirements.

DATES: Comments on the collections of information are due July 12, 2021.

ADDRESSES: You may submit copies of your comments (identified by Docket No. IC21-20-000 and the specific FERC collection number (FERC-567 or FERC-576)) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

Comments: Comments are invited on: (1) Whether the collections of information is necessary for the proper performance of the functions of the Commission, including whether the information will have practical utility; (2) the accuracy of the agency's estimate of the burden ¹ and cost of the collections of information, including the validity of the methodology and assumptions used; (3) ways to enhance the quality, utility and clarity of the information collections; and (4) ways to minimize the burden of the collections of information on those who are to respond, including the use of automated collection techniques or other forms of information technology.

¹ Burden is defined as the total time, effort, or financial resources expended by persons to generate, maintain, retain, or disclose or provide information to or for a Federal agency. For further explanation of what is included in the information collections burden, reference 5 Code of Federal Regulations 1320.3.

SUPPLEMENTARY INFORMATION: The following information pertains to FERC-567 only.

Title: FERC-567, Gas Pipeline Certificates: Annual Reports of System Flow Diagrams.

OMB Control No.: 1902-0005.

Type of Request: Three-year extension of the FERC-567 information collection requirements with no changes to the current reporting requirements.

Abstract: Per 18 Code of Federal Regulations (CFR) 260.8(a), each major interstate natural gas pipeline with a system delivery capacity exceeding 100,000 Mcf ² per day is required to submit, by June 1 of each year, diagrams reflecting operating conditions on the pipeline's main transmission system during the previous 12 months ending on December 31. The submitted information must include (i) configuration and location of installed pipeline facilities; (ii) receipt and delivery points between shippers, and pipeline companies; (iii) location of compressor stations on a pipeline system; (iv) pipeline diameters; (v) maximum allowable operating pressures; (vi) suction and discharge pressures at compressor stations; (vii) installed horsepower and volumes compressed at each compressor station; (viii) existing shippers currently nominating service under firm contracts on each pipeline company; and (ix) peak capacity on the system. The data is collected so that it's available in the event the Commission needs to confirm pipeline facility data.

² Mcf is a unit of measurement for natural gas that equals 1,000 cubic feet.

Type of Respondents: Natural gas pipeline companies with a system delivery capacity in excess of 100,000 Mcf per day.

Estimate of Annual Burden: The Commission estimates the annual public reporting burden for the information collection as:

³ The number of respondents in the currently approved OMB inventory for FERC-567 is 197. Changes to the estimate were based on average number of respondents over the past three years.

⁴ The Commission staff estimates that the average respondent for FERC-567 is similarly situated to the Commission, in terms of salary plus benefits. Based on FERC's 2020 annual average of $172,329 (for salary plus benefits), the average hourly cost is $83/hour.

FERC-567—Gas Pipeline Certificates: Annual Reports of System Flow Diagrams
Respondents | Number of respondents ³ | Annual number of responses per respondent | Total number of responses | Average burden and cost per response ⁴ | Total annual burden hours and total annual cost | Cost per respondent ($)
| (1) | (2) | (1) * (2) = (3) | (4) | (3) * (4) = (5) | (5) ÷ (1)
Natural Gas Pipelines | 124 | 1 | 124 | 4 hrs.; $332 | 496 hrs.; $41,168 | $332

The following information pertains to FERC-576 only.

Title: FERC-576, Report of Service Interruptions or Damage to Facilities.

OMB Control No.: 1902-0004.

Type of Request: Three-year extension of the FERC-576 information collection requirements with no changes to the current reporting requirements.

Abstract: Per 18 CFR 260.9, natural gas pipeline companies must report (i) damage to any jurisdictional natural gas facilities other than liquefied natural gas facilities caused by a hurricane, earthquake or other natural disaster or terrorist activity that results in a loss of or reduction in pipeline throughput or storage deliverability; and (ii) serious interruptions of service to any shipper involving jurisdictional natural gas facilities other than liquefied natural gas facilities.

The notifications, made to the Director, Division of Pipeline Certificates via email or fax as soon as feasibly possible, must state: (1) The location of the service interruption or damage to natural gas pipeline or storage facilities; (2) The nature of any damage to pipeline or storage facilities; (3) Specific identification of the facilities damaged; (4) The time the service interruption or damage to the facilities occurred; (5) The customers affected by the service interruption or damage to the facilities; (6) Emergency actions taken to maintain service; and (7) Company contact and telephone number. The information provided by these notifications are kept by the Commission and are not made part of the public record.

In addition, if an incident requires reporting of the incident to the Department of Transportation under the Natural Gas Pipeline Safety Act of 1968, a copy of such report shall be submitted to the Director of the Commission's Division of Pipeline Certificates, within 30 days of the reportable incident. Natural gas companies must also send a copy of submitted reports to each state commission for the state(s) in which the reported service interruption occurred. If the Commission did not collect this information, it would lose a data point that assists in the monitoring of transactions, operations, and reliability of interstate pipelines.

Type of Respondents: Natural gas companies experiencing service interruptions or damage to facilities.

Estimate of Annual Burden: The Commission estimates the average annual burden and cost ⁵ for this information collection as follows.

⁵ Costs (for wages and benefits) are based on wage figures from the Bureau of Labor Statistics (BLS) for May 2020 (at https://www.bls.gov/oes/current/naics2_22.htm). Commission staff estimates that 20% of the work is performed by a manager, and 80% is performed by legal staff. The hourly costs for wages plus benefits are:

• Management (Occupational Code: 11-0000) is $97.89.

• Legal (Occupational Code: 23-0000) is $142.25. Therefore, the weighted hourly cost (for wages plus benefits) is $133.38 [(0.20 * $97.89) + (0.80 * $142.25)].

FERC-576—Report of Service Interruptions or Damage to Facilities
| Number of respondents ⁶ | Annual number of responses per respondent | Total number of responses | Average burden hours and cost ($) per response | Total annual burden hours and total annual cost | Cost per respondent ⁷ ($)
| (1) | (2) | (1) * (2) = (3) | (4) | (3) * (4) = (5) | (5) ÷ (1)
Notification of Incident—Service Interruption | 50 | 1 | 50 | 1 hr.; $133.38 | 50 hrs.; $6,669 | $133.38
Notification of Incident—Damage | 22 | 1 | 22 | 0.25 hrs.; $33.45 | 5.5 hrs.; $735.90 | 33.45
Submittal of DOT Incident Report | 10 | 1 | 10 | 0.25 hrs.; $33.45 | 2.5 hrs.; $333.45 | 33.45
Total | 82 |  |  |  | 84 hrs.; $11,212.74 |

Dated: May 5, 2021.
⁶ The total number of respondents in the currently approved OMB inventory for FERC-576 is 147. Changes to the estimate were based on average number of respondents over the past three years.
Kimberly D. Bose,
Secretary.

[FR Doc. 2021-09935 Filed 5-10-21; 8:45 am]

BILLING CODE 6717-01-P